DEPARTMENT OF HOMELAND SECURITY

Federal Emergency Management Agency

44 CFR Part 67

[Docket ID FEMA-2010-0003; Internal Agency Docket No. FEMA-B-1158]

Proposed Flood Elevation Determinations

Correction

In proposed rule document 2010—31545 beginning on page 78654 in the issue of Thursday, December 16, 2010, make the following correction:

§ 67.4 [Corrected]

On page 78656, in § 67.4, in the table Maui County, Hawaii, the headings are corrected to read as set forth below:

Flooding source(s) | Location of referenced elevation ** | * Elevation in feet (NGVD) + Elevation in feet (NAVD) # Depth in feet above ground ‸ Elevation in feet (LTD): Effective | * Elevation in feet (NGVD) + Elevation in feet (NAVD) # Depth in feet above ground ‸ Elevation in feet (LTD): Modified | Communities affected
Maui County, Hawaii

* * * * *

[FR Doc. C1-2010-31545 Filed 3-21-11; 8:45 am]

BILLING CODE 1505-01-D